FEDERAL COMMUNICATIONS COMMISSION

Privacy Act System of Records

AGENCY: Federal Communications Commission (FCC or Commission or Agency)

ACTION: Notice; one new Privacy Act system of records.

SUMMARY: Pursuant to subsection (e)(4) of the Privacy Act of 1974, as amended (5 U.S.C. 552a), the FCC proposes to add a new system of records, FCC/OMD-32, “FCC Telework Program.” The FCC's Human Resources Management (HRM) division in the Office of Managing Director (OMD) will use the information contained in FCC/OMD-32 to cover the personally identifiable information (PII) that is required as part of the FCC's employee telework program. The FCC Telework Program provides employees with the voluntary opportunity to work from home or another FCC approved telework location, including but not limited to other approved alternate worksite(s). This system will cover the personally identifiable information (PII) that employees provide when they complete the FCC Telework Request Form and Agreement, Home Safety Self-Certification Checklist for Home-Based Telecommuters and related documentation to apply voluntarily for permission to telework and any related information that their supervisor may include as part of the terms and conditions for teleworking. The FCC uses the information in this form and related documentation to manage the telework program and to conduct telework evaluations and audits.

DATES: In accordance with 5 U.S.C. 552a(e)(4) and (e)(11) of the Privacy Act, as amended, any interested person may submit written comments concerning this new system of records on or before April 27, 2015. The Administrator, Office of Information and Regulatory Affairs (OIRA), Office of Management and Budget (OMB), which has oversight responsibility under the Privacy Act to review the system of records, and Congress may submit comments on or before May 5, 2015. The proposed new system of records will become effective on May 5, 2015 unless the FCC receives comments that require a contrary determination. The Commission will publish a document in the Federal Register notifying the public if any changes are necessary. As required by 5 U.S.C. 552a(r) of the Privacy Act, the FCC is submitting reports on this proposed new system to OMB and Congress.

ADDRESSES: Address comments to Leslie F. Smith, Privacy Analyst, Information Technology (IT), Office of Managing Director (OMD), Room 1-C216, Federal Communications Commission (FCC), 445 12th Street SW., Washington, DC 20554, or via the Internet at Leslie.Smith@fcc.gov.

FOR FURTHER INFORMATION: Contact Leslie F. Smith, Information Technology (IT), Office of Managing Director (OMD), Room 1-C216, Federal Communications Commission (FCC), 445 12th Street SW., Washington, DC 20554, (202) 418-0217, or via the Internet at Leslie.Smith@fcc.gov.

SUPPLEMENTARY INFORMATION: As required by the Privacy Act of 1974, as amended, 5 U.S.C. 552a(e)(4) and (e)(11), this document sets forth notice of the proposed new system of records maintained by the FCC. This notice is a summary of the more detailed information about the proposed new system of records, which may be obtained or viewed pursuant to the contact and location information given above in the ADDRESSES section. The purpose for establishing this new system of records, FCC/OMD-32, “FCC Telework Program” is to cover the PII where the information is maintained for each FCC employee's telework application and related documentation that may be included by their supervisor as part of the terms and conditions for teleworking. The FCC will use the information in this form and related documentation to manage, evaluate, and audit the telework program. This notice meets the requirement documenting the proposed new system of records that is to be added to the systems of records that the FCC maintains, and provides the public, OMB, and Congress with an opportunity to comment.

FCC/OMD-32

SYSTEM NAME:

FCC Telework Program.

SECURITY CLASSIFICATION:

The FCC's CIO team will provide a security classification to this system based on NIST FIPS-199 standards.

SYSTEM LOCATION(S):

Human Resources Management (HRM), Office of Managing Director (OMD), Federal Communications Commission (FCC), 445 12th Street SW., Washington, DC 20554; and Individual FCC Bureaus and Offices (B/O), Federal Communications Commission (FCC), 445 12th Street SW., Washington, DC 20554.

CATEGORIES OF INDIVIDUALS COVERED BY THE SYSTEM:

The categories of individuals in this system include FCC employees who voluntarily apply for permission to telework from their home, a satellite office, or other FCC approved alternate worksite(s), and their supervisors who review, approve, deny, and/or renew the telework applications.

CATEGORIES OF RECORDS IN THE SYSTEM:

The categories of records in the system include but are not limited to, the information that FCC employees are (voluntarily) required to provide on FCC Telework Request Form and Agreement, Home Safety Self-Certification for Home-Based Telecommuters, Certificate of Completion of telework training, and/or Reasonable Accommodation Requests ¹ to apply for permission to telework from home or at another FCC approved alternate worksite(s). These records include, but are not limited to:

¹ The FCC system of records notice (SORN), FCC/OWD-1, “Reasonable Accommodation Requests under the Rehabilitation Act of 1973,” (76 FR 17234, 17268 published on April 5, 2006) covers the PII contained in requests for reasonable accommodations.

1. FCC employee's name; title, series, grade; bureau/division/branch; date of request and date telework training completed; and supervisor's name and telephone number;

2. Employee telework request: Routine (regular/recurring) and/or situational (ad hoc), start date and end date; regular/recurring days during pay period week 1 and/or week 2—Monday(s) to Friday(s);² Emergency Response Group (ERG) membership for Continuity of Operations (COOP) and continuity plan activation;

² The FCC SORN, FCC/OMD-28, “FCC Time and Attendance (T&A) Records,” (76 FR 51975 published on August 19, 2011 (correction notice) and 76 FR 55388 published on September 7, 2011) and two OPM government-wide system of records notices, OPM/GOVT-2, “Employee Performance File Systems Records (71 FR 35342, 35347 published on June 19, 2006) and OPM/GOVT-3, “Records of Adverse Actions, Performance Based Reduction in Grade and Removal Actions, and Termination of Probationers” (71 FR 35342, 35350 published on June 19, 2006), cover the PII related to an employee's teleworking information that is included in their bi-weekly time and attendance submission.

3. Description of work to be performed during telework, including supervisor's conditions specific to telework agreement (e.g., that includes but is not limited to contact expectations, reporting requirements, etc.); and ERG responsibilities (if applicable);

4. Employee's Official Duty Station: Address and telephone number(s);

5. Employee's alternate worksite: Address and telephone number(s); employee's email address (if different from work email); fax number; and tour of duty (hours);

6. Approvals (including terms of the telework agreement): Employee's signature and date; supervisor's signature and date; cancellation/denial, including reason; renewal; and supervisor and employee's initials and date;

7. Self-certification for home safety;

8. Telework Training certificate (i.e., Home Safety Self-certification checklist for home-based telecommuters; also known as Home Self-certification Form);

9. Reasonable Accommodation Requests; and

10. Rosters of teleworking employees maintained by the Bureaus and Offices (B/O) for (routine and emergency) contact purposes.

AUTHORITY FOR MAINTENANCE OF THE SYSTEM:

The Telework Enhancement Act of 2010 (December 9, 2010); Public Law 111-292, codified primarily at 5 U.S.C. 6501-6506.

PURPOSE(S):

The FCC provides a telework program for Commission employees. The telework program is voluntary, but employees must qualify to participate in this program by: (1) Filling out FCC Telework Request Form and Agreement and Home Safety Self-Certification Checklist for Home-Based Telecommuters, and (2) completing telework training. This system covers the personally identifiable information (PII) that FCC employees must provide when they apply for permission to telework from home or at other FCC approved alternate worksite(s); and the terms and conditions that relate to this telework agreement. The FCC will use the information in the FCC Telework Request Form and Agreement and related documentation to manage the telework program, to conduct telework evaluations and audits, and to prepare reports, as required by Congress and other Federal agencies, which include but are not limited to DOL, GAO, GSA, OMB, and OPM.

The B/O may also maintain employee teleworking rosters for contact purposes.

ROUTINE USES OF RECORDS MAINTAINED IN THE SYSTEM, INCLUDING CATEGORIES OF USERS AND THE PURPOSES OF SUCH USES:

Information about individuals in this system of records may routinely be disclosed under the following conditions. The FCC will determine whether disclosure of the records is compatible with the purpose for which the records were collected in each of these cases.

1. FCC Program Management—A record from this system may be accessed and used by the FCC's HRM and B/O supervisory staff in their duties associated with the management and operation of the FCC Telework Program participants for FCC employees. This information may be used to conduct audits, evaluations, and/or investigations of the telework program (for the purposes, which include, but are not limited to, eliminating waste, fraud, and abuse in the telework program). This information may be shared with an employee's supervisors or co-workers, staff in OMD, and/or the Office of Inspector General (OIG), as necessary;

2. FCC Contractors—Records from this system (including paper documents and electronic records and data) may be disclosed to and used by contractors working at the FCC as required in the performance of their assigned duties as directed by the HRM and IT supervisors and staff;

3. Congressional Investigations and Inquiries—A record from this system may be disclosed to either House of Congress, or, to the extent of matter within its jurisdiction, any committee or subcommittee thereof, for the purposes of an official Congressional investigation, which includes but is not limited to information concerning the FCC Telework Program, and/or in response to an inquiry made by an individual to the Congressional office for the individual's own records;

4. Government-wide Program Management and Oversight—When requested by the National Archives and Records Administration (NARA), the Office of Personnel Management (OPM), the General Services Administration (GSA), and/or the Government Accountability Office (GAO) for the purpose of records management studies conducted under authority of 44 U.S.C. 2904 and 2906 (such disclosure(s) shall not be used to make a determination about individuals); when the U.S. Department of Justice (DOJ) is contacted in order to obtain that department's advice regarding disclosure obligations under the Freedom of Information Act; or when the Office of Management and Budget (OMB) is contacted in order to obtain that office's advice regarding obligations under the Privacy Act;

5. General Services Administration (GSA)—A record from this system may be disclosed to GSA when FCC employees and contractors use a GSA approved alternate worksite for the purposes that include, but are not limited to security regulations, facilities management (that include, but are not limited to facility space allocation and management requirements, staffing requirements, and related work-space arrangements), and/or other GSA function(s); or when an emergency at the FCC headquarters and/or FCC facilities requires FCC employees to relocate to a GSA approved alternate worksite(s) until they can return to their normal FCC work location;

6. Department of Labor—A record from this system may be disclosed to the Department of Labor (DOL) for telework labor management issues, which include but are not limited to when an employee sustains injuries while working at home, emergency office relocation requirements, and other issues that impact an employee teleworking at home or at approved alternate worksites.

7. Law Enforcement and Investigation—Where there is an indication of a violation or potential violation of a statute, regulation, rule, or order, records from this system may be shared with appropriate federal, state, or local authorities either for purposes of obtaining additional information relevant to a FCC decision or for referring the record for investigation, enforcement, or prosecution by another agency;

8. Adjudication and Litigation—Where by careful review, the Agency determines that the records are both relevant and necessary to litigation and the use of such records is deemed by the Agency to be for a purpose that is compatible with the purpose for which the Agency collected the records, these records may be used by a court or adjudicative body in a proceeding when: (a) The Agency or any component thereof; or (b) any employee of the Agency in his or her official capacity; or (c) any employee of the Agency in his or her individual capacity where the Agency has agreed to represent the employee; or (d) the United States Government is a party to litigation or has an interest in such litigation;

9. Department of Justice—A record from this system of records may be disclosed to the Department of Justice (DOJ) or in a proceeding before a court or adjudicative body when:

(a) The United States, the Commission, a component of the Commission, or, when represented by the government, an employee of the Commission is a party to litigation or anticipated litigation or has an interest in such litigation, and

(b) The Commission determines that the disclosure is relevant or necessary to the litigation;

10. Breach of Federal Data—A record from this system may be disclosed to appropriate agencies, entities, and persons when: (1) The Commission suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure made to such agencies, entities, and persons is reasonably necessary to assist in connection with the Commission's efforts to respond to the suspected or confirmed compromise and prevent, minimize, or remedy such harm;

11. Labor Relations—A record from this system may be disclosed to officials of labor organizations recognized under 5 U.S.C. Chapter 71 upon receipt of a formal request and in accord with the conditions of 5 U.S.C. 7114 when relevant and necessary to their duties of exclusive representation concerning personnel policies, practices, and matters affecting working conditions;

12. Employment, Clearances, Licensing, Contract, Grant, or other Benefits Decisions by the agency—A record from this system may be disclosed to a Federal, State, local, foreign, tribal, or other public agency or authority maintaining civil, criminal, or other relevant enforcement records, or other pertinent records, or to another public authority or professional organization, if necessary to obtain information relevant to an investigation concerning the retention of an employee or other personnel action (other than hiring), the retention of a security clearance, the letting of a contract, or the issuance or retention of a grant, or other benefit; and

13. Employment, Clearances, Licensing, Contract, Grant, or other Benefits Decisions by other than the agency—A record from this system may be disclosed to a Federal, State, local, foreign, tribal, or other public agency or authority of the fact that this system of records contains information relevant to the retention of an employee, the retention of a security clearance, the letting of a contract, or the issuance or retention of a license, grant, or other benefit. The other agency or licensing organization may then make a request supported by the written consent of the individual for the entire records if it so chooses. No disclosure will be made unless the information has been determined to be sufficiently reliable to support a referral to another office within the agency or to another Federal agency for criminal, civil, administrative, personnel, or regulatory action.

DISCLOSURE TO CONSUMER REPORTING AGENCIES:

None.

POLICIES AND PRACTICES FOR STORING, RETRIEVING, ACCESSING, RETAINING, AND DISPOSING OF RECORDS IN THE SYSTEM:

STORAGE:

The information pertaining to the FCC Telework Program includes electronic records, files, and data and paper documents, records, and files. HRM and the B/O will jointly manage these electronic data and paper document files:

1. The electronic data will be stored in the computer files housed in the FCC's computer network databases.

2. The paper documents, files and records will be stored in filing cabinets in the HRM office suite and, in the appropriate B/O files, as applicable for teleworking employees.

RETRIEVABILITY:

Information in the FCC Telework Program may be retrieved by various identifiers, including, but not limited to the individual's name, B/O, address, home phone number, and residential address, and supervisor's name.

SAFEGUARDS:

Access to the electronic files is restricted to authorized HRM and B/O supervisors and staff, and the contractor's supervisors and staff, who manage the FCC computer network databases. The FCC requires that these computer network databases be protected by various security protocols and safeguards, which include, but are not limited to, controlled access, passwords, and other security features. In addition, data in the network servers are routinely backed-up. The servers are stored in a secured environment to protect the data.

The paper documents, including all forms and related documentation, are maintained in file cabinets that are located in HRM and B/Os. The file cabinets are locked when not in use and at the end of the business day. Access to these files is restricted to authorized HRM, B/O supervisors, staff, and contractors. Only authorized staff may be granted access to contact rosters. Paper copies of such rosters must be under the control of the employee or locked in a secure container when not in use. Safeguards in place adhere to Federal standards, including the National Institute of Standard and Technology (NIST) and FCC standards.

RETENTION AND DISPOSAL:

The National Archives and Records Administration (NARA) has not established a records schedule for the information in the FCC Telework Program. Consequently, the FCC will maintain the information in the telework program files until NARA approves the appropriate records schedule.

SYSTEM MANAGER(S) AND ADDRESS:

Human Resources Management (HRM), Office of Managing Director (OMD), Federal Communications Commission (FCC), 445 12th Street SW., Washington, DC 20554; and Individual FCC Bureaus and Offices, Federal Communications Commission (FCC), 445 12th Street SW., Washington, DC 20554.

NOTIFICATION PROCEDURE:

Privacy Analyst, Information Technology (IT), Office of Managing Director (OMD), Federal Communications Commission (FCC), 445 12th Street SW., Washington, DC 20554.

RECORD ACCESS PROCEDURES:

Privacy Analyst, Information Technology (IT), Office of Managing Director (OMD), Federal Communications Commission (FCC), 445 12th Street SW., Washington, DC 20554.

CONTESTING RECORD PROCEDURES:

Privacy Analyst, Information Technology (IT), Office of Managing Director (OMD), Federal Communications Commission (FCC), 445 12th Street SW., Washington, DC 20554.

RECORD SOURCE CATEGORIES:

The sources for the information in the FCC Telework Program include, but are not limited to:

1. The information that the FCC employees are required to provide on the FCC Telework Request Form and Agreement, Telework Training Certificate, and Home Safety Self-Certification when they voluntarily seek to participate in the telework program; Reasonable Accommodations Requests; and

2. Information related to an employee's application, which the supervisor may include as part of the terms and conditions for an employee's telework review and approval, disapproval, and/or renewal.

EXEMPTIONS CLAIMED FOR THE SYSTEM:

None.

Federal Communications Commission.
Marlene H. Dortch,
Secretary.

[FR Doc. 2015-06935 Filed 3-25-15; 8:45 am]

BILLING CODE 6712-01-P